DEPARTMENT OF THE INTERIOR

Bureau of Land Management

[ID-930-5420-EU-D038, D039; DK-G06-0003; IDI-35462, IDI-35463]

Disclaimers of Interest in Lands, Idaho

AGENCY: Bureau of Land Management, Interior.

ACTION: Notice.

SUMMARY: Two applications have been filed by Robert P. Brown, Attorney at Law on behalf of Dale L. Becker and Evelyn M. Becker (personal representative of the estate of Donald S. Becker, deceased), for recordable disclaimers of interest in certain lands by the United States.

DATES: Comments or protests to this action should be received by August 28, 2006.

ADDRESS: Comments or protests must be filed with: State Director (ID933), Bureau of Land Management, 1387 S. Vinnell Way, Boise, ID 83709

FOR FURTHER INFORMATION CONTACT: Cathie Foster, BLM, Idaho State Office, 1387 S. Vinnell Way, Boise, Idaho 83709, (208) 373-3863 or Ron Grant, BLM, Cottonwood Field Office, 1 Butte Drive, Cottonwood, Idaho 83522, (208) 962-3680.

SUPPLEMENTARY INFORMATION: Pursuant to Section 315 of the Federal Land Policy and Management Act of 1976 (43 U.S.C. 1745), Robert P. Brown, has filed two applications on behalf of Dale L. Becker and Evelyn M. Becker (personal representative of the estate of Donald S. Becker, deceased) requesting the United States issue recordable disclaimers of interest.

One disclaimer of interest has been requested for the following described property, to wit:

The 87.5 acres fronting government lots 3 and 4 in section 8 shown on a Record of Survey in T. 34 N., R. 5 W., sections 5, 6, and 8, Boise Meridian, Idaho, executed by Terry Golding, PLS 7379, plat signed August 29, 2003 and on file in the BLM, Idaho State Office in case file IDI-35463.

Another disclaimer of interest has been requested for the following described property to wit:

The 10.2 acres fronting government lot 2 in section 8 shown on a Record of Survey in T. 34 N., R. 5 W., sections 5, 6, and 8, Boise Meridian, Idaho, executed by Terry Golding, PLS 7379, plat signed August 29, 2003 and on file in the BLM, Idaho State Office in case file IDI-35462.

Based on the applications and Record of Survey by Terry Golding, Idaho PLS 7379, plat signed August 29, 2003 and on file in the BLM, Idaho State Office in case file IDI-35463 and case file IDI-35462, the original 1872 survey by John B. David erroneously reported the location of the line of ordinary high water for the Snake River. We consider this erroneous location to be nonsubstantial and thus eligible for a disclaimer of interest according to the case law elements required for omitted lands. Therefore, the applications by Robert P. Brown for disclaimers from the United States will be approved if no valid objection is received. This action will clear a cloud on the title of Dale L. Becker's and Evelyn M. Becker's (personal representative of the estate of Donald S. Becker, deceased) land.

Comments, including names and street addresses of respondents will be available for public review at the Idaho State Office, Bureau of Land Management, 1387 S. Vinnell Way, Boise, Idaho during regular business hours 9 a.m. to 4 p.m. Monday through Friday, except holidays. Individual respondents may request confidentiality. If you wish to withhold your name or address from public review or from disclosure under the Freedom of Information Act, you must state this prominently at the beginning of your comments. Such requests will be honored to the extent allowed by law. All submissions from organizations or businesses and from individuals identifying themselves as representatives or officials of organizations or businesses will be made available for public inspection in their entirety.

Dated: April 17, 2006.
Jimmie Buxton,
Chief, Branch of Lands, Minerals and Water Rights, Resource Services Division.

[FR Doc. E6-8255 Filed 5-26-06; 8:45 am]

BILLING CODE 4310-GG-P